EXPORT-IMPORT BANK

[Public Notice: EIB-2026-002]

Application for Final Commitment for a Long-Term Loan or Financial Guarantee in Excess of $100 Million: AP300117XX-USA

AGENCY: Export-Import Bank of the United States.

ACTION: Notice.

SUMMARY: This Notice is to inform the public, in accordance with the Export-Import Bank Act of 1945, as amended, the Export-Import Bank of the United States (“EXIM”) has received an application for final commitment for a long-term loan or financial guarantee in excess of $100 million. Comments received within the comment period specified below will be presented to the EXIM Board of Directors prior to final action on this Transaction.

DATES: Comments must be received on or before January 26, 2026 to be assured of consideration before final consideration of the transaction by the Board of Directors of EXIM.

ADDRESSES: Comments may be submitted through Regulations.gov at www.regulations.gov. To submit a comment, enter EIB-2026-002 under the heading “Enter Keyword or ID” and select Search. Follow the instructions provided at the Submit a Comment screen. Please include your name, company name (if any) and EIB-2026-002 on any attached document.

SUPPLEMENTARY INFORMATION:

Reference: AP300117XX-USA.

Purpose and Use: To support U.S.-based industrial operations and supply chain stability.

Brief description of the purpose of the transaction: A facility to support U.S. companies, domestic employment, and supply chain resilience.

Brief non-proprietary description of the anticipated use of the items being exported: To support domestic supply chain resilience and U.S.-based manufacturing capacity through EXIM's import authority. The facility is intended for U.S.-based operations and domestic project needs.

Parties: EXIM; Legally Independent Delaware Entity.

Principal Supplier: N/A.

Obligor: Legally Independent Delaware Entity.

Guarantor(s): N/A.

Description of Items Being Exported: Not applicable. Project activities are limited to domestic supply chain resilience efforts and do not involve exports.

Information on Decision: Information on the final decision for this transaction will be available in the “Board Agenda and Meeting Minutes” on https://www.exim.gov/news/meeting-minutes.

Confidential Information: Please note that this notice does not include confidential or proprietary business information; information which, if disclosed, would violate the Trade Secrets Act; or information which would jeopardize jobs in the United States by supplying information that competitors could use to compete with companies in the United States.

Authority: Section 3(c)(10) of the Export-Import Bank Act of 1945, as amended (12 U.S.C. 635a(c)(10)).

Dated: December 23, 2025.
Andrew Smith,
Records Officer.

[FR Doc. 2025-23978 Filed 12-29-25; 8:45 am]

BILLING CODE 6690-01-P